DEPARTMENT OF ENERGY

Federal Energy Regulatory Commission

Notice of the Revocation Of Market-Based Rate Tariffs

September 20, 2004.

In the matter of: ER02-2001-003, ER98-4240-002, ER00-2363-001, ER00-1975-001, ER97-360-013, ER97-1428-006, ER97-3788-010, ER97-2604-007, ER97-1643-001, ER96-659-017, ER97-1630-004, ER96-1283-008, ER00-741-002, ER95-964-011, ER99-3005-003, ER97-2792-010, ER01-1279-002, ER96-1798-006, ER97-4427-004, ER97-4173-001, ER94-1580-022, ER00-2248-001, ER96-280-016, ER98-1622-008, ER96-3086-011, ER01-1897-002, ER98-1486-004, ER00-1453-001, ER97-2413-012, ER98-3393-006, ER99-3142-001, ER97-3416-006, ER97-4787-001, ER96-2583-002, ER95-257-020, ER98-4264-001, ER96-594-006, ER96-2435-001, ER98-3433-005, ER95-792-014, ER98-1148-006, ER96-1119-008, ER99-505-005, ER97-135-001, ER98-174-007, ER99-1184-002, ER96-203-004, ER97-778-004, ER98-3344-001, ER98-1824-009, ER98-1953-006, ER98-1421-006, ER95-914-013, ER96-1930-011, ER96-1754-001, ER96-332-008, ER94-931-016, ER95-1234-017, ER95-473-012, ER96-947-015, ER01-40-001, ER97-3056-004, ER98-3012-002, ER98-3261-003, ER97-765-008, ER95-1047-011, ER96-2882-014, ER98-2175-008, ER99-4044-001, ER96-1724-010, ER98-3526-007, ER95-385-010, ER01-1496-001, ER96-906-009, ER94-1676-017, ER92-429-020, ER97-2900-002, ER02-517-003, ER01-36-002, ER97-3306-003, ER00-1408-001, ER98-1829-009, ER97-2426-004, ER96-525-012, ER95-1855-012, ER97-1248-005, ER96-1150-003, ER97-3526-006, ER96-2914-007, ER97-2517-009, ER98-1823-005, Electric Quarterly Reports, Abacus Group, Ltd., Allied Companies, LLC, American Energy Savings, Inc., American Energy Trading, Inc., American Power Reserve Marketing, Anker Power Services, Inc., Applied Resources Integrated Services, Inc., APRA Energy Group, Inc., Bonneville Fuels Management Corp., Brennan Power, Inc., BTU Power Corporation, Canal Emirates Power International, Inc., CNB/Olympic Gas Services, Coast Energy Group, Community Electric Power Corporation, Connecticut Energy Cooperative, Inc., CPS Capital, Limited, Electric Lite, Inc., Electrical Associates Power Marketing, Inc., Energy Resource Marketing, Inc., Energy Trading Company, Inc., Energy Transfer Group, LLC, Energy Unlimited, Inc., Energy2, Inc., EOPT Power Group Nevada, Inc., Equinox Energy, LLC, Essential Utility Resources, LLC, FINA Energy Services Company, Fortistar Power Marketing, LLC, FPH Electric, LLC, Global Energy & Technology, Inc., High Island Marketing, Inc., Hubbard Power & Light, Inc., Industrial Gas & Electric Services Co., International Energy Ventures, Inc., International Utility Consultants Inc., J.D. Enterprises, JMF Power Marketing, K Power Company, Inc., Kamps Propane, Inc., Kibler Energy Ltd, Lakeside Energy Services, LLC, Manner Technologies, LLC, Millennium Energy Corporation, Minnesota Agri-Power, LLC, Multi-Energies USA, Inc., NXIS, LLC, Omni Energy, Pacific Energy & Development Corp., PG Energy PowerPlus, Polaris Electric Power Company, Inc., Power Clearinghouse, Inc., Power Fuels, Inc., Powerline Controls, Inc., PowerMark, LLC, PowerNet G.P., Prairie Winds Energy, Inc., Proven Alternatives, Inc., Quantum Energy Resources, Inc., Quinnipiac Energy, LLC, R. Hadler and Company, Inc., Rainbow Power USA LLC, Reliable Energy, Inc., Revelation Energy Resources Corporation, Ruffin Energy Services, Inc., Russell Energy Services Company, Salem Electric, Inc., Sandia Resources Corporation, SDS Petroleum Products, Inc., Shamrock Trading, LLC, Southeastern Energy Resources, Inc., Sundance Energy, SuperSystems, Inc., Texas-Ohio Power Marketing, Inc., Torco Energy Marketing, Inc., United Regional Energy, L.L.C., US Gas & Electric, USPower Energy, LLC, UTIL Power Marketing Inc., Utilimax.com, Inc., UtiliSource Corporation, UtiliSys Corporation, Utility Management & Consulting, Inc., VTEC Energy Inc., Wasatch Energy Corporation, Wheeled Electric Power Co., Woodruff Energy, Working Assets Green Power, Inc., Xenergy, Inc., XERXE Group, Inc.

On June 23, 2004, the Commission issued an Order (June Order) ¹ stating its intent to withdraw market-based rate authority from 96 public utilities that had not filed Electric Quarterly Reports. The Commission gave the utilities 30 days to file their overdue Electric Quarterly Reports or face cancellation of their market-based rate tariffs.

¹ Intent to Revoke Market-Based Rate Authority, (June 23, 2004).

In Order 2001,² the Commission required public utilities, including power marketers, to file, among other things, Electric Quarterly Reports summarizing the contractual terms and conditions in their agreements for all jurisdictional services (including market-based power sales, cost-based power sales, and transmission service) and transaction information (including rates) for short-term and long-term market-based power sales and cost-based power sales during the most recent calendar quarter.

² Revised Public Utility Filing Requirements, Order No. 2001, 67 Fed. Reg. 31043, FERC Stats. & Regs. ¶ 31,127 at P 11-12, 18-21 (April 25, 2002), reh'g denied, Order No. 2001-A, 100 FERC ¶ 61,074, reconsideration and clarification denied, Order No. 2001-B, 100 FERC ¶ 61,342, order directing filings, Order No. 2001-C, 101 FERC ¶ 61,314 (2002).

Six of the 96 companies identified in the June Order made the required filings. The above-captioned companies have not filed Electric Quarterly Reports. Commission staff made a concerted effort to contact each of these companies. Contact was attempted in writing, by e-mail and by telephone to remind them of their regulatory obligation. In the June Order, the Commission ordered:

Within 30 days of the date of issuance of this order, each public utility listed in the caption of this order shall file its Electric Quarterly Reports for the 2nd, 3rd, and 4th Quarters of 2002 and the 1st, 2nd, 3rd and 4th Quarters of the 2003 and 1st and 2nd Quarters of 2004. If no such filings are made, the Commission will withdraw the public utility's authority to sell power at market-based rates and terminate its electric market-based rate tariff.

The Commission hereby withdraws the market-based rate authority and terminates the electric market-based rate tariff for each of the 90 companies captioned above in this Notice.

Magalie R. Salas,
Secretary.

[FR Doc. E4-2379 Filed 9-24-04; 8:45 am]

BILLING CODE 6717-01-P